DEPARTMENT OF HEALTH AND HUMAN SERVICES

Notification of Single Source Cooperative Agreement Award for Project Hope

AGENCY: Department of Health and Human Services (HHS), Assistant Secretary for Preparedness and Response (ASPR), Office of Policy and Planning (OPP).

ACTION: Notification of Single Source Cooperative Agreement Award for Project Hope, the publisher of Health Affairs, for strengthening emergency care delivery in the United States healthcare system through health information and promotion in Support of National Health Security Strategy (2009) and Implementation Plan (2012) and Homeland Security Presidential Directive-21 (2007). CFDA#93.078.

Statutory Authority: Public Health Service Act, Section 1703(c), 42 U.S.C. Section 300u-2(c).

Amount of Single Source Award: $50,000.

Project Period: September 15, 2012 to December 15, 2012.

SUMMARY: In FY2012, HHS/ASPR/OPP plans to provide a single source cooperative agreement award to Project Hope to strengthen emergency care delivery in the United States healthcare system through health information and promotion in support of the Homeland Security Presidential Directive-21 (2007) and the National Health Security Strategy (2009) and Implementation Plan (2012).

In the past decade, numerous studies have described the delivery of emergency care in the United States as fragmented, overburdened, underfunded, and challenged in its efforts to provide an appropriate level of high quality and cost effective emergency care for Americans on a daily basis and in response to a public health emergency or disaster. These studies have recommended that the emergency care delivery system be redesigned and more broadly integrated into the U.S. healthcare system and healthcare sub-systems. As these changes will have implications for the broader healthcare community, particularly the primary care sub-system, it is essential that both expert and non-expert healthcare professionals, across the healthcare continuum, be informed and engaged in these key policy discussions.

Project Hope will plan the publication of a Health Affairs thematic issue that will identify, explore and propose policy options for developing, strengthening and preparing a regionalized, accountable and coordinated system of emergency care that is broadly integrated into the United States healthcare system and capable of responding to a public health emergency or disaster. The project will serve to educate non-emergency medicine healthcare policy professionals and providers about the current state of emergency care delivery in the United States. It will also promote an interdisciplinary dialogue between emergency and other healthcare professionals and providers regarding policy options for the coordinated and integrated delivery of acute unscheduled care that might result from an acute onset of symptoms, exacerbation of a chronic disease, or a public health emergency or disaster. This project will focus on exploring, identifying and proposing policy options regarding workforce, finance, organization and medical care delivery that are essential to redesigning emergency care delivery and supporting its full integration into other healthcare sub-systems as well as the broader U.S. healthcare system. This work will be performed in the context of Homeland Security Presidential Directive-21 and Strategic Objective (4) of the National Health Security Strategy (2009) and Implementation Plan (2012) that seek to foster integrated, scalable healthcare delivery systems that can meet both daily demands and medical surge demands resulting from a public health emergency or disaster.

Single Source Justification

Over the past few years, emergency care delivery and systems research and policy have largely been discussed in research-focused academic journals, publications and forums that have primarily targeted expert emergency care and pre-hospital care communities. While these forums have been successful in engaging emergency care communities, they have had minimal success in engaging the rest of the U.S. healthcare system policy professionals and providers that impact or are impacted by emergency care delivery. In the past, HHS and other federal departments have addressed similar healthcare policy engagement challenges by having Project Hope develop, provide or, promote key healthcare policy information via easy-to-read Health Affairs thematic issues and targeted outreach activities that ensured optimal awareness, engagement and discussion by a wide audience of expert and non-expert healthcare policy professionals, healthcare providers, and the general public.

The Project Hope Health Affairs journal is uniquely positioned to execute the proposed thematic issue. Although other publications can and do focus on scientific and clinical aspects of emergency care, none of the journals have a primary focus on policy matters related to workforce, financing, organization and the delivery of medical care. Health Affairs also has the largest circulation among healthcare policy publications with an estimated eleven thousand individual and institutional subscribers and more than fifty million online page views per year. Health Affairs is considered a trusted source for health policy—frequently cited in congressional testimony and the news media—and has a wide-ranging audience that includes healthcare professionals and providers, academia, private sector, health advocates, opinion leaders, industry decision makers, and government leaders. Project Hope has also successfully developed and published other key Health Affairs healthcare thematic issues that have significantly increased expert and non-expert interdisciplinary discussions and the general population's awareness and understanding of these topics.

In making this award, ASPR will capitalize on Project Hope's extensive experience in producing and marketing thematic issues that ensure broader healthcare professional and provider engagement, interdisciplinary discussion, and general public awareness. Utilizing Project Hope's best practices, this new investment will offer HHS and the healthcare community the opportunity to explore, identify, and propose key policy ideas and initiatives for developing, strengthening and preparing a regionalized, accountable, coordinated, and integrated system of emergency care that is able to meet daily demands and respond to and recover from a public health emergency or disaster.

In summary, Project Hope's experience, status as a trusted policy source, and widespread subscribership and global audience will be critical to the viability of this cooperative agreement. This collaboration will support HHS efforts to develop a resilient U.S. healthcare system that is capable of providing integrated, cost-effective and high-quality emergency care both daily and in response to a public health emergency or disaster.

Additional Information

The agency program contact is Kristen Finne, who can be contacted by phone at (202) 691-2013 or via email at kristen.finne@hhs.gov.

Dated: July 25, 2012.
Edward J. Gabriel,
Principal Deputy Assistant Secretary for Preparedness and Response.

[FR Doc. 2012-18683 Filed 7-30-12; 8:45 am]

BILLING CODE 4150-37-P